DEPARTMENT OF STATE

[Public Notice 12757]

60-Day Notice of Proposed Information Collection: Application for Employment as a Locally Employed Staff or Family Member

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 10, 2025.

ADDRESSES: You may submit comments by any of the following methods:

• Web: Persons with access to the internet may comment on this notice by going to www.Regulations.gov. You can search for the document by entering “Docket Number: DOS-2025-0072” in the Search field. Then click the “Comment Now” button and complete the comment form.

• Email: GTM-OE-ERAHelp@state.gov.

• Regular Mail: Send written comments to: GTM/OE, 2401 E Street NW, Suite 800, Washington, DC 20037.

You must include the DS form number (if applicable), information collection title, and the OMB control number in any correspondence.

FOR FURTHER INFORMATION CONTACT: Direct requests for additional information regarding the collection listed in this notice, including requests for copies of the proposed collection instrument and supporting documents, to Anne Amadou who may be reached at amadouae@state.gov.

SUPPLEMENTARY INFORMATION:

• Title of Information Collection: Employment Application for Locally Employed Staff or Family Member.

• OMB Control Number: 1405-0189.

• Type of Request: Renewal of a Currently Approved Collection.

• Originating Office: Bureau of Global Talent Management, Office of Overseas Employment (GTM/OE).

• Form Number: DS-174.

• Respondents: The respondents are locals who live in 175 countries abroad and who are applying for a position at the U.S. Embassy, Consulate or Mission in their country. In addition, family members who are accompanying their sponsors to assignments in the U.S. Embassies, Consulates or Mission abroad.

• Estimated Number of Respondents: 600,000.

• Estimated Number of Responses: 600,000.

• Average Time per Response: 15 minutes.

• Total Estimated Burden Time: 150,000 hours.

• Frequency: On occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information solicited is used to establish eligibility and qualifications at U.S. Embassies, Consulates, and Missions abroad. The respondents are locals who live in the 175 countries abroad and who are applying for a position at the U.S. Embassy, Consulate or Mission in their country. In addition, Family members who are accompanying their partners to assignments in the U.S. Embassies, Consulates or Mission abroad. The authority is the Foreign Service Act of 1980, as amended, and 22 U.S.C. 2669(c).

Methodology

Candidates for employment use the DS-0174 to apply for Mission-advertised positions around the world. Mission recruitments generate approximately 1 million applications per year, the majority of which are collected electronically using an applicant management system, Electronic Recruitment Application (ERA). Data that HR and hiring officials extract from the DS-0174 determine employment eligibility and qualifications for the position, and selections according to Federal Policies.

Darren Hultman,
Deputy Assistant Secretary, Personnel and Training, Department of State.

[FR Doc. 2025-17383 Filed 9-9-25; 8:45 am]

BILLING CODE 4710-15-P